DEPARTMENT OF THE TREASURY

Open Meeting of the Federal Advisory Committee on Insurance

AGENCY: Departmental Offices, Department of the Treasury.

ACTION: Notice of open meeting.

SUMMARY: This notice announces that the U.S. Department of the Treasury's Federal Advisory Committee on Insurance (FACI) will meet in the Cash Room at the U.S. Department of the Treasury, 1500 Pennsylvania Ave. NW, Washington, DC, and also via videoconference on Wednesday, March 20, 2024, from 1:30 p.m.-4:30 p.m. Eastern Time. The meeting will be open to the public. The FACI provides non-binding recommendations and advice to the Federal Insurance Office (FIO) in the U.S. Department of the Treasury.

DATES: Wednesday, March 20, 2024, from 1:30 p.m.-4:30 p.m. Eastern Time.

Attendance: The meeting is open to the public, and the site is accessible to individuals with disabilities. Because the meeting will be held in a secured facility, members of the public who plan to attend the meeting must register online. Attendees may visit https://events.treasury.gov/s/event-template/a2m3d0000005HpiAAE/march-20-faci-public-meeting and fill out a secure online registration form. A valid email address will be required to complete online registration. (Note: online registration will close on March 13th or when capacity is reached.) The public can also attend remotely via live webcast: https://usdotyorktel.rev.vbrick.com/#/events/1ef087f9-0c1a-4ccc-ad92-c96e245e4bfc. The webcast will also be available through the FACI's website: https://home.treasury.gov/policy-issues/financial-markets-financial-institutions-and-fiscal-service/federal-insurance-office/federal-advisory-committee-on-insurance-faci. Please refer to the FACI's website for up-to-date information on this meeting. Requests for reasonable accommodations under Section 504 of the Rehabilitation Act should be directed to Snider Page, Office of Civil Rights and Equal Employment Opportunity, Department of the Treasury at (202) 622-0341, or snider.page@treasury.gov.

ADDRESSES: The meeting will be held in the Cash Room, Department of the Treasury, 1500 Pennsylvania Ave. NW, Washington, DC 20220 and also via videoconference.

FOR FURTHER INFORMATION CONTACT: John Gudgel, Senior Insurance Regulatory Policy Analyst, Federal Insurance Office, U.S. Department of the Treasury, 1500 Pennsylvania Ave. NW, Room 1410 MT, Washington, DC 20220, at (202) 622-1748 (this is not a toll-free number). Persons who have difficulty hearing or speaking may access this number via TTY by calling the toll-free Federal Relay Service at (800) 877-8339.

SUPPLEMENTARY INFORMATION: Notice of this meeting is provided in accordance with the Federal Advisory Committee Act (FACA), 5 U.S.C. 1009(a)(2), through implementing regulations at 41 CFR 102-3.150.

Public Comment: Members of the public wishing to comment on the business of the FACI are invited to submit written statements by either of the following methods:

Electronic Statements

• Send electronic comments to faci@treasury.gov.

Paper Statements

• Send paper statements in triplicate to the Federal Advisory Committee on Insurance, U.S. Department of the Treasury, 1500 Pennsylvania Ave. NW, Room 1410 MT, Washington, DC 20220.

In general, the Department of the Treasury will make submitted comments available upon request without change, including any business or personal information provided such as names, addresses, email addresses, or telephone numbers. Requests for public comments can be submitted via email to faci@treasury.gov. The Department of the Treasury will also make such statements available for public inspection and copying in the Department of the Treasury's Library, 720 Madison Place NW, Room 1020, Washington, DC 20220, on official business days between the hours of 10:00 a.m. and 5:00 p.m. Eastern Time. You can make an appointment to inspect statements by telephoning (202) 622-2000. All statements received, including attachments and other supporting materials, are part of the public record and subject to public disclosure. You should submit only information that you wish to make available publicly.

Tentative Agenda/Topics for Discussion: This will be the first FACI meeting of 2024. In this meeting, the FACI will continue to discuss topics related to climate-related financial risk and the insurance sector, and will also discuss cyber insurance developments and international insurance issues. The FACI will also receive status updates from each of its subcommittees and from FIO on its activities, as well as consider any new business.

Dated: February 16, 2024.
Steven Seitz,
Director, Federal Insurance Office.

[FR Doc. 2024-03677 Filed 2-22-24; 8:45 am]

BILLING CODE 4810-AK-P